DEPARTMENT OF HEALTH AND HUMAN SERVICES

Administration for Children and Families

Proposed Information Collection Activity; Comment Request

Title: TANF Office Culture Study.

OMB No.: New Collection.

Description: The Administration for Children and Families (ACF), U.S. Department of Health and Human Services (HHS) is proposing data collection activities as part of a project to identify and describe exemplars of TANF organizational culture as well as successful strategies human services offices have undertaken to improve their organizational culture. This qualitative study intends to use this information to increase understanding of how various agencies' organizational cultures influence TANF clients' experiences, service delivery, and frontline workers.

The information collection activities to be submitted in the package include:

(1) Leadership and supervisor interviews will collect information on program structure and staffing, client experiences, agency goals and performance management, organizational learning and innovation, cultural congruence across service providers, and the perception of the organizational culture change, if applicable.

(2) Frontline workers' interviews will collect information about frontline staffs' role in service delivery, client experiences, peer interaction and social institutions within the agency, agency goals, organizational learning and innovation, and the perception of the organizational culture change initiative, if applicable.

(3) The focus groups will collect information about program participants' perceptions of agency processes, their communication with agency staff, and their assessment of the agency's organizational culture.

Respondents: Individuals receiving TANF and related services, TANF directors, and managers and staff at local TANF offices.

Annual Burden Estimates
Instrument | Total number of respondents | Annual number of respondents | Number of responses per respondent | Average burden hours per response | Annual burden hours
Leadership and Supervisor Interview Guide | 24 | 8 | 1 | 1.5 | 12
Frontline Staff Interview Guide | 12 | 4 | 1 | 1 | 4
Focus Group Guide | 54 | 18 | 1 | 1.5 | 27

Estimated Total Annual Burden Hours: 43.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2018-00990 Filed 1-19-18; 8:45 am]

BILLING CODE 4184-09-P